DEPARTMENT OF COMMERCE

National Institute of Standards and Technology

Open Meeting of the Internet of Things Advisory Board

AGENCY: National Institute of Standards and Technology (NIST), Department of Commerce.

ACTION: Notice of open meeting.

SUMMARY: The Internet of Things (IoT) Advisory Board will meet Friday, June 14, 2024 from 11 a.m. until 2 p.m., eastern time. This session will be open to the public.

DATES: The Internet of Things (IoT) Advisory Board will meet Friday, June 14, 2024 from 11 a.m. until 2 p.m., eastern time.

ADDRESSES: The meeting will be virtual via Webex webcast hosted by the National Cybersecurity Center of Excellence (NCCoE) at NIST. Please note registration instructions under the SUPPLEMENTARY INFORMATION section of this notice.

FOR FURTHER INFORMATION CONTACT: Barbara Cuthill, Information Technology Laboratory, National Institute of Standards and Technology, MS 2000, 100 Bureau Drive, Gaithersburg, MD 20899, Telephone: (301) 975-3273, Email address: barbara.cuthill@nist.gov.

SUPPLEMENTARY INFORMATION: Pursuant to the Federal Advisory Committee Act, as amended, 5 U.S.C. 1001 et seq., notice is hereby given that the IoT Advisory Board will hold an open meeting on the date and time specified in the DATES section. This meeting will be open to the public. The IoT Advisory Board is authorized by section 9204(b)(5) of the William M. (Mac) Thornberry National Defense Authorization Act for Fiscal Year 2021 (Pub. L. 116-283) and advises the IoT Federal Working Group convened by the Secretary of Commerce pursuant to section 9204(b)(1) of the Act on matters related to the Federal Working Group's activities. Details regarding the IoT Advisory Board's activities are available at https://www.nist.gov/itl/applied-cybersecurity/nist-cybersecurity-iot-program/internet-things-advisory-board.

The purpose of this meeting is to finalize the IoT Advisory Board's report for the IoT Federal Working Group. The recommendations documented in the report were accepted as final at the May 2024 meeting. This meeting's agenda will focus on finalizing the initial sections of the report, primarily the Executive Summary, Introduction, Future of IOT and Findings. Note that agenda items may change without notice. The final agendas will be posted on the IoT Advisory Board web page: https://www.nist.gov/itl/applied-cybersecurity/nist-cybersecurity-iot-program/internet-things-advisory-board.

Public Participation: Written comments on the drafts available at the IoT Advisory Board website above are invited and may be submitted in writing by mail or electronically by email to Barbara Cuthill at the contact information indicated in the FOR FURTHER INFORMATION CONTACT section of this notice. Due to the limited length of the meeting, there will not be time for members of the public to speak.

Admittance Instructions: Participants planning to attend via webinar must register via the instructions found on the IoT Advisory Board's web page at https://www.nist.gov/itl/applied-cybersecurity/nist-cybersecurity-iot-program/internet-things-advisory-board.

Alicia Chambers,
NIST Executive Secretariat.

[FR Doc. 2024-11367 Filed 5-22-24; 8:45 am]

BILLING CODE 3510-13-P